DEPARTMENT OF HEALTH AND HUMAN SERVICES

Administration for Children and Families

Proposed Information Collection Activity; Grants to States for Access and Visitation (Office of Management and Budget #: 0970-0204)

AGENCY: Division of Program Innovation, Office of Child Support Services, Administration for Children and Families, U.S. Department of Health and Human Services.

ACTION: Request for public comments.

SUMMARY: The Division of Program Innovation (DPI), Office of Child Support Services (OCSS), Administration for Children and Families (ACF) is requesting a 3-year extension of the Access and Visitation Survey: Annual Report (Office of Management and Budget #: 0970-0204, expiration 6/30/2024). There are no requested changes to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The grantee and sub-grantee submit the spreadsheet and survey yearly. Information collected includes the number of applicants/referrals for each program, the total number of participating individuals, and the number of persons who have completed program requirements by authorized activities (mediation—voluntary and mandatory; counseling; education; development of parenting plans; visitation enforcement, including monitoring, supervision and neutral drop-off and pickup; and development of guidelines for visitation and alternative custody arrangements. OCSS uses the information to ensure recipient's adherence statutory (Sec. 469B. [42 U.S.C. 669b] and regulatory (45 CFR part 303)) requirements of “Grants to States for Access and Visitation.”

Respondents: State child access and visitation programs and state or local service providers.

Annual Burden Estimates
Instrument | Total number of respondents | Annual number of responses per respondent | Average burden hours per response | Annual burden hours
Online Portal Survey by States and Jurisdictions | 53 | 1 | 16 | 848
Survey of local service grantees | 264 | 1 | 16 | 4,224

Estimated Total Annual Burden Hours: 5,072.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec.469B [42 U.S.C.669b]; 45 CFR part 303.

Mary B. Jones,
ACF/OPRE Certifying Officer.

[FR Doc. 2024-00155 Filed 1-5-24; 8:45 am]

BILLING CODE 4184-41-P